DEPARTMENT OF ENERGY

Federal Energy Regulatory Commission

Combined Notice of Filings #1

Take notice that the Commission received the following exempt wholesale generator filings:

Docket Numbers: EG15-107-000.

Applicants: Cedar Bluff Wind, LLC.

Description: Notice of self-certification of Exempt Wholesale Generator Status of Cedar Bluff Wind, LLC.

Filed Date: 7/31/15.

Accession Number: 20150731-5302.

Comments Due: 5 p.m. ET 8/21/15.

Take notice that the Commission received the following electric rate filings:

Docket Numbers: ER11-3417-009; ER10-2895-013; ER14-1964-004; ER13-2143-006; ER10-3167-005; ER13-203-005; ER11-2292-013; ER11-3942-012; ER11-2293-013; ER10-2917-013; ER11-2294-012; ER12-2447-011; ER13-1613-006; ER10-2918-014; ER10-2920-013; ER11-3941-011; ER10-2921-013; ER10-2922-013; ER13-1346-005; ER10-2966-013; ER11-2383-008; ER10-3178-006.

Applicants: Alta Wind VIII, LLC, Bear Swamp Power Company LLC, BIF II Safe Harbor Holdings, LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC.

Description: Notice of Non-Material Change in Status of the Brookfield Companies.

Filed Date: 7/31/15.

Accession Number: 20150731-5305.

Comments Due: 5 p.m. ET 8/21/15.

Docket Numbers: ER13-1943-003.

Applicants: Midcontinent Independent System Operator, Inc.

Description: Compliance filing: 2015-07-31_MISO-PJM Order 1000 Interregional Compliance to be effective 1/1/2014.

Filed Date: 7/31/15.

Accession Number: 20150731-5236.

Comments Due: 5 p.m. ET 8/21/15.

Docket Numbers: ER13-1944-002.

Applicants: PJM Interconnection, L.L.C.

Description: Compliance filing: Compliance Filing per 12/18/14 Order in Docket No. ER13-1944-000 to be effective 1/1/2014.

Filed Date: 7/31/15.

Accession Number: 20150731-5205.

Comments Due: 5 p.m. ET 8/21/15.

Docket Numbers: ER15-1682-001.

Applicants: TransCanyon DCR, LLC.

Description: Compliance filing: TO Tariff CWIP Compliance Filing to be effective N/A.

Filed Date: 7/31/15.

Accession Number: 20150731-5246.

Comments Due: 5 p.m. ET 8/21/15.

Docket Numbers: ER15-2129-000.

Applicants: Slate Creek Wind Project, LLC.

Description: Supplement to July 8, 2015 Slate Creek Wind Project, LLC tariff filing.

Filed Date: 7/31/15.

Accession Number: 20150731-5298.

Comments Due: 5 p.m. ET 8/21/15.

Docket Numbers: ER15-2130-000.

Applicants: Roosevelt Wind Project, LLC.

Description: Supplement to July 8, 2015 Roosevelt Wind Project, LLC tariff filing.

Filed Date: 7/31/15.

Accession Number: 20150731-5297.

Comments Due: 5 p.m. ET 8/21/15.

Docket Numbers: ER15-2131-000.

Applicants: Milo Wind Project, LLC.

Description: Supplement to July 8, 2015 Milo Wind Project, LLC tariff filing.

Filed Date: 7/31/15.

Accession Number: 20150731-5296.

Comments Due: 5 p.m. ET 8/21/15.

Docket Numbers: ER15-2358-000.

Applicants: Pacific Gas and Electric Company.

Description: § 205(d) Rate Filing: Revisions to CDWR's Load Interconnection Agreement reflecting Amendment No. 1 to be effective 7/1/2015.

Filed Date: 7/31/15.

Accession Number: 20150731-5219.

Comments Due: 5 p.m. ET 8/21/15.

Docket Numbers: ER15-2359-000.

Applicants: Nevada Power Company.

Description: § 205(d) Rate Filing: OATT Attachment P Revisions to be effective 9/30/2015.

Filed Date: 7/31/15.

Accession Number: 20150731-5241.

Comments Due: 5 p.m. ET 8/21/15.

Docket Numbers: ER15-2360-000.

Applicants: Southwest Power Pool, Inc.

Description: § 205(d) Rate Filing: Basin Electric Power Cooperative Contract Services Agreement to be effective 10/1/2015.

Filed Date: 7/31/15.

Accession Number: 20150731-5245.

Comments Due: 5 p.m. ET 8/21/15.

Docket Numbers: ER15-2361-000.

Applicants: Southwest Power Pool, Inc.

Description: § 205(d) Rate Filing: 3065 Montana-Dakota Utilities Co. Market Participant Agr to be effective 10/1/2015.

Filed Date: 7/31/15.

Accession Number: 20150731-5247.

Comments Due: 5 p.m. ET 8/21/15.

Docket Numbers: ER15-2362-000.

Applicants: PJM Interconnection, L.L.C.

Description: § 205(d) Rate Filing: Original Service Agreements Nos. 4225 & 4226; Queue Nos. V1-011 & V1-012 to be effective 10/3/2014.

Filed Date: 7/31/15.

Accession Number: 20150731-5248.

Comments Due: 5 p.m. ET 8/21/15.

Docket Numbers: ER15-2363-000.

Applicants: Southwest Power Pool, Inc.

Description: § 205(d) Rate Filing: 3070 WAPA-UGP Market Participant Service Agreement to be effective 10/1/2015.

Filed Date: 7/31/15.

Accession Number: 20150731-5251.

Comments Due: 5 p.m. ET 8/21/15.

Docket Numbers: ER15-2364-000.

Applicants: Midcontinent Independent System Operator, Inc.

Description: § 205(d) Rate Filing: 2015-07-31_Prairie Power Attachment O Filing to be effective 10/1/2015.

Filed Date: 7/31/15.

Accession Number: 20150731-5253.

Comments Due: 5 p.m. ET 8/21/15.

Docket Numbers: ER15-2365-000.

Applicants: PacifiCorp.

Description: § 205(d) Rate Filing: OATT EIM—Rev to Enhance Operation to be effective 9/30/2015.

Filed Date: 7/31/15.

Accession Number: 20150731-5255.

Comments Due: 5 p.m. ET 8/21/15.

Docket Numbers: ER15-2366-000.

Applicants: Black Hills Power, Inc.

Description: § 205(d) Rate Filing: Revised Black Hills Power, Inc. JOATT Schedule 2 to be effective 9/29/2015.

Filed Date: 7/31/15.

Accession Number: 20150731-5257.

Comments Due: 5 p.m. ET 8/21/15.

Docket Numbers: ER15-2367-000.

Applicants: Nittany Energy, LLC.

Description: Baseline eTariff Filing: Nittany Energy LLC Market Based Rate Tariff to be effective 9/30/2015.

Filed Date: 8/3/15.

Accession Number: 20150803-5001.

Comments Due: 5 p.m. ET 8/24/15.

Docket Numbers: ER15-2368-000.

Applicants: RC Cape May Holdings, LLC.

Description: Request for Waiver of RC Cape May Holdings, LLC.

Filed Date: 8/3/15.

Accession Number: 20150803-5069.

Comments Due: 5 p.m. ET 8/24/15.

Docket Numbers: ER15-2369-000.

Applicants: Midcontinent Independent System Operator, Inc.

Description: § 205(d) Rate Filing: 2015-08-03_SA 2824 ATC-Marshfield Facilities Construction Agreement to be effective 10/2/2015.

Filed Date: 8/3/15.

Accession Number: 20150803-5095.

Comments Due: 5 p.m. ET 8/24/15.

Docket Numbers: ER15-2370-000.

Applicants: PJM Interconnection, L.L.C.

Description: § 205(d) Rate Filing: Request for Limited Waiver of Must Offer Exception Pre-Notification Date to be effective 8/25/2015.

Filed Date: 8/3/15.

Accession Number: 20150803-5113.

Comments Due: 5 p.m. ET 8/24/15.

Take notice that the Commission received the following electric securities filings:

Docket Numbers: ES15-40-000; ES15-42-000; ES15-43-000; ES15-44-000; ES15-45-000; ES15-46-000; ES15-47-000; ES15-48-000.

Applicants: Jersey Central Power & Light Co., Pennsylvania Power Company, Pennsylvania Electric Company, Metropolitan Edison Company, West Penn Power Company, Monongahela Power Company, The Potomac Edison Company, Trans- Allegheny Interstate Line Company.

Description: Application of Jersey Central Power & Light Company, et al. for Authorization under Section 204(a) of the Federal Power Act to Issue Short-Term Debt Securities.

Filed Date: 7/31/15.

Accession Number: 20150731-5287.

Comments Due: 5 p.m. ET 8/21/15.

Docket Numbers: ES15-41-000.

Applicants: Old Dominion Electric Cooperative, Inc.

Description: Application for Authorization to Issue Short- and Long-term Debt, to Guaranty Obligations, and for Waivers of Old Dominion Electric Cooperative.

Filed Date: 7/31/15.

Accession Number: 20150731-5289.

Comments Due: 5 p.m. ET 8/21/15.

Take notice that the Commission received the following land acquisition reports:

Docket Numbers: LA15-2-000.

Applicants: Virginia Electric and Power Company, Dominion Energy Marketing, Inc. Dominion Nuclear Connecticut, Inc. Dominion Energy Manchester Street, Inc. Dominion Retail, Inc. Fairless Energy, LLC, NedPower Mt. Storm, LLC, Fowler Ridge Wind Farm, LLC, Dominion Bridgeport Fuel Cell, LLC, RE Columbia Two LLC, RE Camelot LLC, Selmer Farm, LLC, Mulberry Farm, LLC, CID Solar, LLC, Cottonwood Solar, LLC, Pavant Solar LLC.

Description: Quarterly Land Acquisition Report of Dominion Resources Services, Inc.

Filed Date: 7/31/15.

Accession Number: 20150731-5288.

Comments Due: 5 p.m. ET 8/21/15.

Docket Numbers: LA15-2-000.

Applicants: Adelanto Solar, LLC, Adelanto Solar II, LLC, Ashtabula Wind, LLC, Ashtabula Wind II, LLC, Ashtabula Wind III, LLC, Backbone Mountain Windpower, LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Desert Sunlight 250, LLC, Desert Sunlight 300, LLC, Diablo Winds, LLC, Elk City Wind, LLC, Elk City II Wind, LLC, Energy Storage Holdings, LLC, Ensign Wind, LLC, ESI Vansycle Partners, L.P., Florida Power & Light Company, FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Marcus Hook, L.P., FPL Energy MH50, L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc. FPL Energy Vansycle, LLC, FPL Energy Wyman, LLC, FPL Energy Wyman IV, LLC, Garden Wind, LLC, Genesis Solar, LLC, Gray County Wind Energy, LLC, Hatch Solar Energy Center I, LLC, Hawkeye Power Partners, LLC, High Majestic Wind Energy Center, LLC, High Majestic Wind II, LLC, High Winds, LLC, Jamaica Bay Peaking Facility, LLC, Lake Benton Power Partners II, LLC, Langdon Wind, LLC, Limon Wind, LLC, Limon Wind II, LLC, Limon Wind III, LLC, Logan Wind Energy LLC, Mammoth Plains Wind Project, LLC, Mantua Creek Solar, LLC, McCoy Solar, LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Energy Point Beach, LLC, NextEra Energy Power Marketing, LLC, NextEra Energy Seabrook, LLC, NextEra Energy Services Massachusetts, LLC, Northeast Energy Associates, LP, North Jersey Energy Associates, A Limited Partnership, North Sky River Energy, LLC, Northern Colorado Wind Energy, LLC, Osceola Windpower, LLC, Osceola Windpower II, LLC, Palo Duro Wind Energy, LLC, Palo Duro Wind Interconnection Services, LLC, Paradise Solar Urban Renewal, L.L.C., Peetz Table Wind Energy, LLC, Pennsylvania Windfarms, LLC, Perrin Ranch Wind, LLC, Pheasant Run Wind, LLC, Red Mesa Wind, LLC, Seiling Wind, LLC, Seiling Wind II, LLC, Seiling Wind Interconnection Services, LLC, Shafter Solar, LLC, Sky River LLC, Somerset Windpower, LLC, Steele Flats Wind Project, LLC, Story Wind, LLC, Tuscola Bay Wind, LLC, Tuscola Wind II, LLC, Vasco Winds, LLC, Waymart Wind Farm, L.P., Wessington Wind Energy Center, LLC, White Oak Energy LLC, Wilton Wind II, LLC, Windpower Partners 1993, LLC.

Description: Quarterly Land Acquisition Report of the NextEra Companies.

Filed Date: 7/31/15.

Accession Number: 20150731-5301.

Comments Due: 5 p.m. ET 8/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2015.
Nathaniel J. Davis, Sr.,
Deputy Secretary.

[FR Doc. 2015-19419 Filed 8-6-15; 8:45 am]

BILLING CODE 6717-01-P